FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 7, 2018.

A. Federal Reserve Bank of Kansas City (Dennis Denney, Assistant Vice President) 1 Memorial Drive, Kansas City, Missouri 64198-0001:

1. Patsy Ruth Davenport and David Mark Davenport, individually, of Oklahoma City, Oklahoma, to retain control of Quail Creek Bancshares, Inc., Oklahoma City, Oklahoma. In addition, the GST Exemption Residuary Share Trust, the Patsy Ruth Davenport Non-Exempt QTIP Trust, the Patsy Ruth Davenport GST Exempt QTIP Trust, the QCB Separate Share Trust f/b/o Mark Davenport, the QCB Separate Share Grandchild's Trust f/b/o Ashley Davenport, the QCB Separate Share Grandchild's Trust f/b/o Christina Davenport, the QCB Separate Share Grandchild's Trust f/b/o Lindsey Duran, the QCB Separate Share Grandchild's Trust f/b/o Alexis Lavender, David Mark Davenport, individually and as trustee of the GST Exemption Residuary Share Trust, the Patsy Ruth Davenport Non-Exempt QTIP Trust, and the Patsy Ruth Davenport GST Exempt QTIP Trust, Patsy Ruth Davenport, as trustee of the GST Exemption Residuary Share Trust, the Patsy Ruth Davenport Non-Exempt QTIP Trust, and the Patsy Ruth Davenport GST Exempt QTIP Trust, and Richard Allen Goranson, as trustee of the QCB Separate Share Trust f/b/o Mark Davenport, the QCB Separate Share Grandchild's Trust f/b/o Ashley Davenport, the QCB Separate Share Grandchild's Trust f/b/o Christina Davenport, the QCB Separate Share Grandchild's Trust f/b/o Lindsey Duran, and the QCB Separate Share Grandchild's Trust f/b/o Alexis Lavender, all of Oklahoma City, Oklahoma as a group acting in concert; to acquire voting shares of Quail Creek Bancshares, Inc., Oklahoma City, Oklahoma, and thereby acquire shares of Quail Creek Bank, National Association, of Oklahoma City, Oklahoma.

Board of Governors of the Federal Reserve System, May 17, 2018.
Yao-Chin Chao,
Assistant Secretary of the Board.

[FR Doc. 2018-10958 Filed 5-22-18; 8:45 am]

BILLING CODE 6210-01-P